ENVIRONMENTAL PROTECTION AGENCY

[FRL9836-2; CERCLA-04-2013-3758]

Florida Petroleum Reprocessors Site, Davie, Broward County, Florida; Notice of Settlement

AGENCY: Environmental Protection Agency (EPA).

ACTION: Notice of settlement.

SUMMARY: Under 122(h) of the Comprehensive Environmental Response, Compensation and Liability Act (CERCLA), the United States Environmental Protection Agency has entered into a settlement with Jap. Tech, Inc. concerning the Florida Petroleum Reprocessors Site located in Davie, Broward County, Florida. The settlement addresses the PRP's Site-wide liability on an Ability-to-Pay basis.

DATES: The Agency will consider public comments on the settlement until August 21, 2013. The Agency will consider all comments received and may modify or withdraw its consent to the settlement if comments received disclose facts or considerations which indicate that the settlement is inappropriate, improper, or inadequate.

ADDRESSES: Copies of the settlement are available from Ms. Paula V. Painter. Submit your comments by Site name Florida Petroleum Reprocesssors Site by one of the following methods:

• www.epa.gov/region4/superfund/programs/enforcement/enforcement.html.

• Email: Painter.Paula@epa.gov.

• U.S. Environmental Protection Agency, 61 Forsyth Street SW., Atlanta, Georgia 30303.

FOR FURTHER INFORMATION CONTACT: Paula V. Painter at 404/562-8887.

Dated: May 16, 2013.
Anita L. Davis,
Chief, Superfund Enforcement & Information Management Branch, Superfund Division.

[FR Doc. 2013-17568 Filed 7-19-13; 8:45 am]

BILLING CODE 6560-50-P